DEPARTMENT OF LABOR

Employment and Training Administration

Comment Request for Information Collection for “Collecting Aggregate Participant Counts for Workforce Investment Act (WIA) Title IB, Wagner-Peyser Act, National Emergency Grants, and Reemployment Services Grants,” OMB Control No. 1205-0474, Extension Without Change

AGENCY: Employment and Training Administration.

ACTION: Notice.

SUMMARY: The Department of Labor, as part of its continuing effort to reduce paperwork and respondent burden conducts a preclearance consultation program to provide the general public and Federal agencies with an opportunity to comment on proposed and/or continuing collections of information in accordance with the Paperwork Reduction Act of 1995 (PRA95) [44 U.S.C. 3506(c)(2)(A)]. This program helps to ensure that requested data can be provided in the desired format, reporting burden (time and financial resources) is minimized, collection instruments are clearly understood, and the impact of collection requirements on respondents can be properly assessed. In response to the American Recovery and Reinvestment Act (ARRA), the Employment and Training Administration is soliciting comments concerning States' submission of monthly supplemental reports that are based on program participant data that States already collect. This notice utilizes standard clearance procedures in accordance with the Paperwork Reduction Act of 1995 and 5 CFR 1320.12. This information collection follows an emergency review that was conducted in accordance with the Paperwork Reduction Act of 1995 and 5 CFR 1320.13. The submission for OMB emergency review was published in the Federal Register on April 30, 2009, see 74 FR 19985. OMB approved the emergency clearance under OMB control number 1205-0474 on May 20, 2009. A copy of this ICR can be obtained from the RegInfo.gov Web site at http://www.reginfo.gov/public/do/PRAMain.

• For WIA Adult, aggregate counts of all participants, including those whose services are funded with regular WIA Adult formula funds and/or Recovery Act funds, including low-income participants, those are also receiving Temporary Assistance to Needy Families and/or other public assistance, as well as the number of UI claimants, Veterans, and individuals with disabilities, numbers in training and type of training, and numbers receiving supportive services.

• For WIA Dislocated Workers, aggregate counts of all participants, including those whose services are funded with regular WIA Dislocated Worker formula funds and/or Recovery Act funds. States will report the number of WIA Dislocated Workers who are UI claimants, Veterans, and individuals with disabilities, numbers in training and type of training, and numbers receiving supportive services.

• For National Emergency Grants, financed with Recovery Act funds only, aggregate counts of participants, including the number of UI claimants, Veterans, and individuals with disabilities, numbers in training and type of training, and numbers receiving supportive services are to be reported.

• For WIA Youth, served with Recovery Act funds only, aggregate counts of all Recovery Act youth participants, including the characteristics of participants, the numbers of participants in summer employment, services received, attainment of a work readiness skill, and completion of summer youth employment are to be reported. Submission of the regular WIA quarterly and annual reports, including any youth who continue services under the WIA year-round youth program, continues.

• For the Wagner-Peyser Act Employment Service, the number of participants served and the type of services received, as well as supplemental reports of aggregate counts of all participants whose services are financed with regular Wagner-Peyser Act formula funds and/or Recovery Act funds (i.e., Employment Service and Reemployment Services) are to be reported.

• For the Wagner-Peyser Reemployment Services Grants, in addition to those data elements already collected for the Wagner-Peyser Act Employment Service report, one additional data element should be reported: Referral to training, including WIA-funded training.

In addition to these aggregate monthly reports, States are requested to submit the individual WIA standardized record data (WIASRD) on all participants and exiters in the WIA title 1B programs, and in National Emergency Grants, on a quarterly basis, beginning with the 3rd quarter of Program Year 2009, which ends on March 31, 2010. The first deadline for the required quarterly submission will be May 15, 2010. This start date gives States sufficient time to adjust their management information systems. The emergency clearance expires November 30, 2009.

A copy of the proposed information collection request (ICR) can be obtained by contacting the office listed below in the addressee section of this notice or by accessing: http://www.doleta.gov/OMBCN/OMBControlNumber.cfm

DATES: Written comments must be submitted to the office listed in the addressee's section below on or before August 17, 2009.

ADDRESSES: Submit written comments to Karen Staha, U.S. Department of Labor, Employment and Training Administration, Office of Performance and Technology, 200 Constitution Avenue, NW., Room S-5206, Washington, DC 20210. Telephone number: 202-693-2917 (this is not a toll-free number). Fax: 202-693-3490. E-mail: Staha.Karen@dol.gov.

SUPPLEMENTARY INFORMATION:

I. Background: The supplemental reports and quarterly collection of WIA individual records replaced the limitations imposed by prior outcome-based performance reporting requirements. This collection comprises a participant and performance reporting strategy that provides a more robust, “real time” view of the impact of the Recovery Act funds, providing greater information on levels of program participation as well as about the characteristics of the participants served and the types of services provided. Furthermore, this information collection allows ETA to report performance accountability information immediately on the effective use of Recovery Act funds already received by State workforce agencies. With these monthly reports, information on individuals will be available while they are participating in the programs. Finally, significant value accrues from quarterly individual records from State workforce agencies. They provide more timely information to respond to the oversight needs of Governors, Congress and other Federal/State stakeholders and the general public; ETA benefits from more timely analysis; and States have access to more regular updates on nationwide participation information and employment and training trends.

II. Review Focus: The Department of Labor is particularly interested in comments which:

* Evaluate whether the proposed collection of information is necessary for the proper performance of the functions of the agency, including whether the information will have practical utility;

* Evaluate the accuracy of the agency's estimate of the burden of the proposed collection of information, including the validity of the methodology and assumptions used;

* Enhance the quality, utility, and clarity of the information to be collected; and

* Minimize the burden of the collection of information on those who are to respond, including through the use of appropriate automated, electronic, mechanical, or other technological collection techniques or other forms of information technology, e.g., permitting electronic submissions of responses.

III. Current Actions:

Type of Review: Extension without changes.

Title: “Collecting Aggregate Participant Counts for Workforce Investment Act (WIA) Title IB, Wagner-Peyser Act, National Emergency Grants, and Reemployment Services Grants.”

OMB Number: 1205-0474.

Affected Public: State Workforce Agencies.

Total Respondents: 54.

Frequency of Collection: Monthly.

Total Responses: 864.

Average Time per Respondent: 64 hours for monthly reports and 2,653 hours for quarterly WIASRD report.

Estimated Total Burden Hours: 614,632.

Total Annual Costs Burden: $0.

Comments submitted in response to this comment request will be summarized and/or included in the request for Office of Management and Budget approval of the information collection request; they will also become a matter of public record.

Dated: June 9, 2009.
John R. Beverly III,
Administrator, Office of Performance and Technology, Employment and Training Administration.

[FR Doc. E9-14082 Filed 6-15-09; 8:45 am]

BILLING CODE 4510-FN-P